DEPARTMENT OF TRANSPORTATION

Office of the Secretary

Notice of Applications for Certificates of Public Convenience and Necessity and Foreign Air Carrier Permits Filed Under Subpart B (Formerly Subpart Q) During the Week Ending March 8, 2014

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2005-22228 and DOT-OST-2011-0076.

Date Filed: March 6, 2014.

Due Date for Answers, Conforming Applications, or Motion to Modify Scope: March 27, 2014.

Description: Application of JetBlue Airways Corporation requesting renewal of its certificate of public convenience and necessity to operate scheduled combination service between the United States, from Boston, MA (BOS), Fort Lauderdale, FL (FLL), New York, NY (JFK) and Orlando, FL (MCO), on the one hand, and Cancun, Mexico (CUN), on the other hand.

Barbara J. Hairston,
Supervisory Dockets Officer, Docket Operations, Federal Register Liaison.

[FR Doc. 2014-06640 Filed 3-25-14; 8:45 am]

BILLING CODE 4910-9X-P